DEPARTMENT OF AGRICULTURE

Rural Utilities Service

Central Electric Power Cooperative, Inc.; Notice of Intent to Hold Public Scoping Meetings and Prepare an Environmental Assessment

AGENCY: Rural Utilities Service, USDA.

ACTION: Notice of intent to hold public scoping meetings and prepare an environmental assessment (EA).

SUMMARY: The Rural Utilities Service (RUS) intends to hold public scoping meetings and prepare an environmental assessment in connection with possible impacts related to a project proposed by Central Electric Power Cooperative, Inc. (CEPCI) of South Carolina. The proposal consists of the construction of approximately 20 miles of 115 kilovolt transmission line to provide more reliable transmission power to McClellanville, SC. The proposed 115-kilovolt transmission line project would be constructed within one of several alternative corridors under consideration. The alternative transmission line corridors originate at existing power delivery points near Jamestown and Charity, Berkeley County and Winyah and Belle Isle south of the city of Georgetown in Georgetown County, SC and at a potential new substation that would be built in the vicinity of the town of Honey Hill, Berkeley County, SC. The corridors terminate at the proposed location of a substation in McClellanville from which electric power distribution lines would service the community. Portions of the alternative corridors include Federal lands of the Francis Marion National Forest therefore the United States Department of Agriculture (USDA) Forest Service (FS) is a cooperating agency in the National Environmental Policy Act (NEPA) analysis. CEPCI is requesting RUS to provide financing for the proposed project.

DATES: RUS will conduct a scoping meeting in an open house format from 4 p.m. until 8 p.m. on Thursday, December 14, 2005, at the McClellanville Government Services Building, located at 405 Pinckney Street, McClellanville, SC 29458 Phone: (843) 887-3712. The purpose of the meeting is to provide information and solicit comments for the preparation of an EA.

FOR FURTHER INFORMATION CONTACT: Stephanie Strength, Environmental Protection Specialist, USDA, Rural Development, Utilities Programs, Engineering and Environmental Staff, Stop 1571, 1400 Independence Avenue, SW., Washington, DC 20250-1571, telephone (202) 720-0468. Mrs. Strength's e-mail address is stephanie.strength@wdc.usda.gov.

SUPPLEMENTARY INFORMATION: CEPCI proposes to construct a 115 kilovolt transmission line between a source substation and a proposed substation located in McClellanville.

Single pole structures ranging in height from 80- to 150-feet would support the conductors and would require a right-of-way of 70 feet. One alternative route includes an approximately 2-mile subsurface directionally-drilled section below the Santee River delta. Depending on which route is chosen the approximate length of the transmission line would be from 16 to 26 miles. It is anticipated that this transmission line would be in service in the Spring of 2008.

Alternatives considered by RUS and CEPCI include: (a) No action, (b) alternative transmission improvements, and (c) alternative transmission line corridors. An Electric Alternative Evaluation and Macro Corridor Study Report, prepared by CEPCI will be presented at the public scoping meeting. The Report is available for public review at the USDA/Rural Development address provided in this notice, at Central Electric Power Cooperative, Inc., 121 Greystone Blvd., Columbia, SC 29210 and at:

Berkeley County Library, PO Box 1239, 1003 Hwy. 52, Moncks Corner, SC 29461, (843) 719-4223, (843) 719-4226 (Fax), Director: Colleen L. Carney, Web Site: http://www.berkeley.lib.sc.us/.

Charleston County Library, 68 Calhoun Street, Charleston, SC 29401, (843) 805-6801, (843) 727-3741 (Fax), Director: Jan Buvinger, Web Site: http://www.ccpl.org.

Georgetown County Library, 405 Cleland Street, Georgetown, SC 29440, (843) 546-2521, (843) 527-3251 (Fax), Director: Dwight McInvaill, Web Site: http://www.gcpl.lib.sc.us/.

McClellanville Branch Library, 222 Baker St., McClellanville, SC 29458, (843) 889-3300.

Government agencies, private organizations, and the public are invited to participate in the planning and analysis of the proposed project. Representatives from RUS and CEPCI will be available at the scoping meeting to discuss RUS' environmental review process, describe the project, the need for the project, the macro corridors under consideration, and discuss the scope of environmental issues to be considered, answer questions, and accept oral and written comments. Written comments will be accepted for 30 days after the public scoping meeting. Written comments should be sent to RUS at the address provided in this notice.

From information provided in the alternative evaluation and site selection study, input that may be provided by government agencies, private organizations, and the public, Central Electric Power Cooperative will prepare an environmental analysis to be submitted to RUS for review. RUS will use the environmental analysis to determine the significance of the impacts of the project and may adopt it as its environmental assessment of the project. RUS' environmental assessment of the project would be available for review and comment for 30 days.

Should RUS determine, based on the EA of the project, that the project would not have a significant environmental impact, it will prepare a finding of no significant impact. Public notification of a finding of no significant impact would be published in the Federal Register and in newspapers with a circulation in the project area.

Any final action by RUS related to the proposed project will be subject to, and contingent upon, compliance with environmental review requirements as prescribed by the Council on Environmental Quality and RUS environmental policies and procedures.

Benjamin Shuman,
Acting Director, Engineering and Environmental Staff, USDA/Rural Development/Utilities Programs.

[FR Doc. 05-23381 Filed 11-28-05; 8:45 am]

BILLING CODE 3410-15-P